EXPORT-IMPORT BANK

[Public Notice 76]

Agency Information Collection Activities: Submission for OMB Review; Comment Request

AGENCY: Export-Import Bank of the U.S.

ACTION: Notice and request for comments.

SUMMARY: The Export-Import Bank of the United States (Ex-Im Bank) and the U.S. Small Business Administration (SBA) provide working capital guarantees to lenders. In assessing the creditoworthiness of an applicant, Ex-Im Bank and SBA review EIB form 84-1. This form provides information which allows the us to obtain legislatively required reasonable assurance of repayment, as well as to fulfill other statutory requirements. Ex-Im Bank will be the primary administrator of the form.

DATES: Written comments should be received on or before September 19, 2005 to be assured of consideration.

ADDRESSES: Direct all comments to David Rostker, Office of Management and Budget, Office of Information and Regulatory Affairs, NEOB, Room 10202, Washington, DC 20503, (202) 395-3897.

Titles and Form Numbers: U.S. Small Business Administration, Export-Import Bank of the United States Joint Application for Working Capital Guarantee.

OMB Number: 3048-0003.

Form Number: EIB-SBA 84-1 (Revised 2/2005).

Type of Review: Revision of a currently approved collection.

Annual Number of Respondents: Ex-Im Bank: 450; SBA: 180; Total 630.

Estimated Time Per Respondent: 2 Hours.

Annual Burden Hours: Ex-Im Bank: 900; SBA: 360; Total: 1,260.

Frequency of Reporting or Use: Upon application for guarantees or working capital loans advanced by the lenders to U.S. exporters.

Dated: August 15, 2005.
Solomon Bush,
Agency Clearance Officer.

BILLING CODE 6690-01-M

[FR Doc. 05-16441 Filed 8-18-05; 8:45 am]

BILLING CODE 6690-01-C